DEPARTMENT OF HEALTH AND HUMAN SERVICES

Administration for Children and Families

Notice To Award an Expansion Supplement

AGENCY: Office of Community Services (OCS), ACF, HHS.

ACTION: Notice to award an expansion supplement under the American Recovery and Reinvestment Act of 2009 (ARRA) for Training and Technical Assistance (T/TA) by Community Action Program Legal Services, Inc. (CAPLAW).

CFDA Number: 93.710.

Legislative Authority: The legislative authority for this grant is provided by the American Recovery and Reinvestment Act of 2009 (Pub. L. 111-5). Additional legislative authority and requirements are provided in Sections 674(b)(2)(A) and 678A of the Community Services Block Grant (CSBG) Act, as amended (42 U.S.C. 9903(b)(2)(A) and 9913).

Amount of Award: $219,445.

Project Period: August 15, 2010 through August 14, 2011.

SUMMARY: The Administration for Children and Families (ACF), Office of Community Services (OCS) has awarded a single source expansion supplement to Community Action Program Legal Services, Inc. (CAPLAW), located in Boston, MA. The project is designed to support T/TA that strengthens the ability of the Community Action Network to comply with and carry out the programs funded by ARRA. The objectives of the project are to: (1) clarify CSBG policy issues, and (2) strengthen CSBG-eligible entity governance and accountability. It will do so by analyzing CSBG policy issues needing clarification, as identified by OCS; developing policy recommendations to address CSBG policy issues applicable to ARRA and “regular” CSBG funds; and responding to the legal, financial, and management T/TA needs among the recipients of CSBG ARRA funds. The project resources developed by CAPLAW, Inc. will promote accountability and help CSBG-eligible entities and States enhance the overall administration of ARRA-funded programs. These resources include issue-specific T/TA and individualized financial consultation; online interactive tutorials; financial network conference calls; online governance and financial management toolkit(s); and T/TA on CSBG ARRA guidance via webinars and audio conferences. The T/TA CAPLAW, Inc. will provide under this award is particularly critical at this time due to the large temporary increase in CSBG funding to CSBG-eligible entities and the need to ensure adherence to high standards of accountability and tracking of the funds and results. The activities funded by this single source expansion supplement expand upon prior activities provided by CAPLAW under their cooperative agreement. A new grant award number will be issued to allow CAPLAW to track and report separately on expenditures from funds made available by ARRA.

FOR FURTHER INFORMATION CONTACT: Danielle Williams, U.S. Department of Health and Human Services, Office of Community Services, Administration for Children and Families, 370 L'Enfant Promenade, SW., Washington, DC 20047, Telephone: (202) 205-4717, E-mail: Danielle.Williams@acf.hhs.gov.

Dated: August 26, 2010.
Yolanda J. Butler,
Acting Director, Office of Community Services.

[FR Doc. 2010-21977 Filed 9-1-10; 8:45 am]

BILLING CODE 4184-27-P